DEPARTMENT OF LABOR

Employment and Training Administration

[TA-W-55,574]

Philips Lighting Company, a Subsidiary of Royal Philips Electronics, Paris, TX; Notice of Revised Determination of Alternative Trade Adjustment Assistance on Remand

On March 9, 2005, the U.S. Court of International Trade (USCIT) granted the Department of Labor's motion for a voluntary remand in Former Employees of Philips Lighting Company v. United States Secretary of Labor, Court No. 04-00651.

On September 29, 2004, the Department issued a determination for the September 2, 2004 petition filed on behalf of workers at the subject company. The workers were certified as eligible to apply for Trade Adjustment Assistance (TAA) and ineligible to apply for Alternative Trade Adjustment Assistance (ATAA). The Notice of determination was published in the Federal Register on October 26, 2004 (69 FR 62462).

By letter dated December 19, 2004, the International Brotherhood of Electrical Workers, Local 1794, appealed to the USCIT for administrative reconsideration of the Department's negative determination regarding the subject worker group's eligibility to apply for ATAA and requested an extension of the certification period to include workers who were separated prior to September 2, 2003 (one year prior to the petition date).

Pursuant to the USCIT's March 9, 2005 order, the Department has conducted an investigation on remand to determine the workers' eligibility to apply for ATAA certification.

The group eligibility certification criteria for the ATAA program under section 246 the Trade Act of 1974, as amended, established that the Department must determine whether a significant number of workers in the workers' firm are 50 years of age or older, whether the workers in the workers' firm possess skills that are not easily transferable, and whether the competitive conditions within the workers' industry are adverse.

During the initial determination, the Department determined that at least five percent of the workforce at the subject firm is at least fifty years of age, that workers of the subject firm possess skills that are easily transferable, and that competitive conditions within the industry are adverse.

During the remand investigation, the Department obtained new information, including information that shows that the average salary level of workers with similar skills as the worker group declined significantly during the investigatory period, that manufacturing employment opportunities within a 120-mile radius of the subject firm are scarce, and that existing manufacturing companies in the county which the subject company is located are not seeking hiring workers with those skills which are possessed by the subject worker group.

The Department cannot grant the petitioner's request to extend the certification period to include workers who were separated prior to September 2, 2003 because the applicable regulation, 29 CFR 90.16(e)(1), states that exclusions from coverage of a certification of eligibility include any worker whose last total or partial separation from the subject firm occurred more than one year before the date of the petition.

Conclusion

After careful review of the facts, I conclude that the requirements of section 246 of the Trade Act of 1974, as amended, have been met for workers at the subject firm. In accordance with the provisions of the Act, I make the following certification:

All workers of Philips Lighting Company, A Subsidiary of Royal Philips Electronics, Paris, Texas, who became totally or partially separated from employment on or after September 2, 2003 through September 29, 2006, are eligible to apply for adjustment assistance under section 223 of the Trade Act of 1974, and are also eligible to apply for alternative trade adjustment assistance under section 246 of the Trade Act of 1974.

Signed at Washington, DC, this 7th day of June 2005.
Elliott S. Kushner,
Certifying Officer, Division of Trade Adjustment Assistance.

[FR Doc. E5-3164 Filed 6-17-05; 8:45 am]

BILLING CODE 4510-30-P